DEPARTMENT OF ENERGY

Federal Energy Regulatory Commission

Combined Notice of Filings #2

Take notice that the Commission received the following electric corporate filings:

Docket Numbers: EC18-20-000.

Applicants: Bendwind, LLC, DeGreeff DP, LLC, DeGreeffpa, LLC, Groen Wind, LLC, Hillcrest Wind, LLC, Larswind, LLC, Sierra Wind, LLC,TAIR Windfarm, LLC, East Ridge Transmission, LLC.

Description: Application for Approval Under Section 203 of the Federal Power Act and Request for Expedited Action of Bendwind, LLC, et al.

Filed Date: 11/15/17.

Accession Number: 20171115-5107.

Comments Due: 5 p.m. ET 12/6/17.

Take notice that the Commission received the following electric rate filings:

Docket Numbers: ER15-2236-002.

Applicants: Midwest Power Transmission Arkansas, LLC.

Description: Compliance filing: Compliance Filing, Midwest Power Transmission Arkansas, LLC to be effective 9/21/2015.

Filed Date: 11/15/17.

Accession Number: 20171115-5154.

Comments Due: 5 p.m. ET 12/6/17.

Docket Numbers: ER15-2237-004.

Applicants: Kanstar Transmission, LLC.

Description: Compliance filing: Compliance Filing, Kanstar Transmission, LLC to be effective 9/21/2015.

Filed Date: 11/15/17.

Accession Number: 20171115-5097.

Comments Due: 5 p.m. ET 12/6/17.

Docket Numbers: ER18-294-000.

Applicants: ITC Midwest LLC.

Description: § 205(d) Rate Filing: Filing of a Master JUA for Distribution Underbuild with Allamakee-Clayton to be effective 1/15/2018.

Filed Date: 11/15/17.

Accession Number: 20171115-5092.

Comments Due: 5 p.m. ET 12/6/17.

Docket Numbers: ER18-295-000.

Applicants: Louisville Gas and Electric Company.

Description: § 205(d) Rate Filing: EKPC NITSA Lock 7 DNR Amd to be effective 10/16/2017.

Filed Date: 11/15/17.

Accession Number: 20171115-5132.

Comments Due: 5 p.m. ET 12/6/17.

Docket Numbers: ER18-296-000.

Applicants: Phibro Americas LLC.

Description: Baseline eTariff Filing: Baseline new to be effective 12/15/2017.

Filed Date: 11/15/17.

Accession Number: 20171115-5152.

Comments Due: 5 p.m. ET 12/6/17.

Docket Numbers: ER18-297-000.

Applicants: Enel Stillwater, LLC.

Description: Baseline eTariff Filing: Enel Stillwater, LLC SFA to be effective 11/16/2017.

Filed Date: 11/15/17.

Accession Number: 20171115-5180.

Comments Due: 5 p.m. ET 12/6/17.

Docket Numbers: ER18-298-000.

Applicants: Midcontinent Independent System Operator, Inc., Ameren Illinois Company.

Description: § 205(d) Rate Filing: 2017-11-15_SA 3062 Ameren-IMEA Switching Agreement to be effective 11/16/2017.

Filed Date: 11/15/17.

Accession Number: 20171115-5187.

Comments Due: 5 p.m. ET 12/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2017.
Nathaniel J. Davis, Sr.,
Deputy Secretary.

[FR Doc. 2017-25152 Filed 11-20-17; 8:45 am]

BILLING CODE 6717-01-P